ENVIRONMENTAL PROTECTION AGENCY

[FRL-7535-6]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 0226.17; Applications for NPDES Discharge Permits and the Sewage Sludge Management Permits; was approved 06/12/2003; in 40 CFR 122.26(b)(14)(i-xi), 40 CFR 122.21(b-l)(p)(q), 40 CFR 122.21(g)(7), (13), 40 CFR 122.21(a)(2); OMB Number 2040-0086, expires 06/30/2006.

EPA ICR No. 0649.08; NSPS for Metal Furniture Coating; was approved 06/16/2003; in 40 CFR part 60, subpart EE; OMB Number 2060-0106; expires 06/30/2006.

EPA ICR No. 0659.09; NSPS for Surface Coating of Large Appliances; was approved 06/16/2003; in 40 CFR part 60, subpart SS; OMB Number 2060-0108; expires 06/30/2006.

EPA ICR No. 0783.44; Motor Vehicle Emission Standards and Emission Credits Provisions (Highway Motorcycles and Recreational Vehicles) (Amendments) (Final Rule); was approved 06/11/2003; in 40 CFR part 1051; OMB Number 2060-0104; expires 07/31/2005.

EPA ICR No. 0997.07; NSPS for Petroleum Dry Cleaners; was approved 06/16/2003; in 40 CFR part 60, subpart JJJ; OMB Number 2060-0079; expires 06/30/2006.

EPA ICR No. 1062.08; NSPS for Coal Preparation Plants; was approved 06/16/2003; in 40 CFR part 60, subpart Y; OMB Number 2060-0122; expires 06/30/2006.

EPA ICR No. 1156.09; NSPS for Synthetic Fiber Production Facility; was approved 06/16/2003; in 40 CFR part 60, subpart HHH; OMB Number 2060-0059; expires 06/30/2006.

EPA ICR No. 1432.22; Recordkeeping and Period Reporting of the Production, Import, Export, Recycling, Destruction, Transhipment and Feedstock Use of Ozone-Depleting Substances (proposed rule); was approved 06/16/2003; in 40 CFR part 82, subpart E, 40 CFR part 82, subpart A, § 83.13; OMB Number 2060-0170; expires 05/31/2005.

EPA ICR No. 1711.04; Voluntary Customer Service Satisfaction Surveys; was approved 06/16/2003; OMB Number 2090-0019; expires 06/30/2006.

EPA ICR No. 1820.03; NPDES Storm Water Program Phase III; was approved 06/12/2003; in 40 CFR 122.26(a), 40 CFR 122.26(c), 40 CFR 122.26(g), 40 CFR 122.33, 40 CFR 122.34(g), 40 CFR 123.25, 40 CFR 123.35; OMB Number 2040-0211; expires 06/30/2006.

EPA ICR No. 1838.02; Industry Detailed Questionnaire: Phase III Cooling Water Intake Structures; was approved 06/20/2003; OMB Number 2040-0213; expires 06/30/2006.

EPA ICR No. 1842.04; Notice of Intent for Storm Water Discharges Associated with Construction Activity under a NPDES General Permit; was approved 06/12/2003; in 40 CFR 122.26(c)(1)(ii), 40 CFR 122.28(b)(2), 40 CFR 122.41(h-i), 40 CFR 122.41(l), 40 CFR 122.44(K)(2); OMB Number 2040-0188; expires 06/30/2006.

EPA ICR No. 1847.03; Federal Plan Recordkeeping and Reporting Requirements for Large Municipal Waste Combustors Constructed on or Before September 20, 1994; was approved 06/16/2003; in 40 CFR part 62, subpart FFF; OMB Number 2060-0390; expires 06/30/2006.

EPA ICR No. 1900.02; NSPS Small Municipal Waste Combustors; was approved 06/16/2003; in 40 CFR part 60, subpart AAAA; OMB Number 2060-0423; expires 06/30/2006.

EPA ICR No. 2003.02; NESHAP for Integrated Iron and Steel Manufacturing (Final Rule); was approved 06/16/2003; in 40 CFR 63.7840(a), 40 CFR 63.7800(b), 40 CFR 63.7841(b-c), 40 CFR 63.7842(a)(1-3), 40 CFR 63.7842(b-d); OMB Number 2060-0517; expires 06/30/2006.

EPA ICR No. 2014.02; Reporting and Recordkeeping Requirements of the HCFC (Hydro-Chlorofluorocarbon) allowance system (Final Rule); was approved 06/16/2003; in 40 CFR 82.23, 40 CFR 82.24; OMB Number 2060-0498; expires 06/30/2006.

EPA ICR No. 2023.02; Recordkeeping and Reporting Requirements for the Clay Ceramics Manufacturing NESHAP; was approved 06/16/2003; in 40 CFR part 63, subpart KKKKK; OMB Number 2060-0513; expires 06/30/2006.

EPA ICR No. 2042.02; NESHAP for Semiconductor Manufacturing; was approved 06/16/2003; in 40 CFR part 63, subpart BBBBB; OMB Number 2060-0519; expires 06/30/2006.

EPA ICR No. 0940.17; Ambient Air Quality Surveillance; was approved 06/06/2003; in 40 CFR part 58; OMB Number 2060-0084; expires 06/30/2006.

EPA ICR No. 1813.04; Information Collection Request for Proposed Regional Haze Regulations; was approved 07/02/2003; in 40 CFR 51.309; OMB Number 2060-0421; expires 07/31/2006.

EPA ICR No. 1053.07; NSPS Subpart Da—Standards of Performance for Electric Utility Steam Generating Units; was approved 07/02/2003; in 40 CFR part 60, subpart Da; OMB Number 2060-0023; expires 07/31/2006.

EPA ICR No. 2066.02; NESHAP for Engine Test Cells/Stands (Final Rule); was approved 07/03/2003; in 40 CFR part 63, subpart PPPPP; OMB Number 2060-0483; expires 07/31/2005.

EPA ICR No. 2032.02; NESHAP for Hydrocholoric Acid Production (Final Rule); was approved 07/03/2003; in 40 CFR part 63, subpart NNNNN; OMB Number 2060-0529; expires 07/31/2006.

EPA ICR No. 1573.10; Part B Permit Application, Permit Modifications and Special Permits (Renewal); was approved 07/03/2003; in 40 CFR 264.90, 264.193, 264.221, 264.251, 264.272, 264.301, 264.344, 270.1, 270.10, 270.14-270.29, 270.33, 270.40, 270.41, 270.42, 270.50, 270.51, 270.60, 270.62, 270.63, 270.64, 270.65 and 270.552; OMB Number 2050-0009; expires 07/31/2006.

EPA ICR No. 1989.02; Final NPDES and ELG Regulatory Revision for Concentrated Animal Feeding Operations; was approved 07/10/2003; in 40 CFR 122, 40 CFR 122.21(i)(1)(i-xi), 40 CFR 122.21(f), 40 CFR 122.21(f)(1), 40 CFR 122.21(f)(7), 40 CFR 122.23(f)(1-3), 40 CFR 122.23(g-h), 40 CFR 122.28(b)(3)(iv), 40 CFR 122.41, 40 CFR 122.42(e)(1), 40 CFR 122.42(e)(1)(i-iv), 40 CFR 122.42(e)(4), 40 CFR 122.42(e)(3), 40 CFR 122.62, 40 CFR 122.62(b)(2-4), 40 CFR 123, 40 CFR 123.25, 40 CFR 123.40, 40 CFR 123.25(a)(22, 27, 30, 31, 33, 34), 40 CFR 123.26(b), 40 CFR 123.42(e)(3-4), 40 CFR 123.42(e)(4)(i-vi), 40 CFR 123.62, 40 CFR 123.62(a), 40 CFR 123.62(b)(1), 40 CFR 412, 40 CFR 412(a)(1)(i-iii), 40 CFR 412.37(b), 40 CFR 412.37(b)(1-6), 40 CFR 412.37(c), 40 CFR 412.37(c)(1-9); OMB Number 2040-0250; expires 07/31/2006.

EPA ICR No. 1569.05; Approval of State Coastal Nonpoint Pollution Control Programs (CZARA Section 6217); was approved 07/09/2003; OMB Number 2040-0153; expires 07/31/2006.

Short Term Extensions

EPA ICR No. 0976.10; The 2001 Hazardous Waste Report (Biennial Report); in 40 CFR 262.40(b), 262.41, 264.75, 265.75; OMB Number 2050-0024; on 06/25/2003; OMB extended the expiration date through 09/30/2003.

EPA ICR No. 1764.02; Reporting and Recordkeeping Requirements for National Volatile Organic Compound Emission Standards for Consumer Products; in 40 CFR part 59, subpart C; OMB Number 2060-0348; on 06/20/2003; OMB extended the expiration date through 09/30/2003.

EPA ICR No. 1765.02; Reporting and Recordkeeping Requirements for National Volatile Organic Compound Emission Standards for Automobile Refinish Coatings; in 40 CFR part 59, subpart B; OMB Number 2060-0353; on 06/20/2003 OMB extended the expiration date through 09/30/2003.

EPA ICR No. 1912.01; Information Collection Request: National Primary Drinking Water Regulation for Lead and Copper (Final Rule); OMB Number 2040-0210; OMB extended the expiration date through 09/30/2003.

EPA ICR No. 1560.06; National Water Quality Inventory Reports (TMDL Final Rule: Clean Water Act Sections 305(b), 303(d), 314(a) and 106(e)); OMB Number 2040-0071; OMB extended the expiration date through 10/31/2003.

Comment Filed

EPA ICR No. 2044.01; NESHAP Surface Coating of Plastic Parts and Products; in 40 CFR part 63, subpart PPPP; on 06/16/2003 OMB filed a comment.

EPA ICR No. 1975.01; NESHAP for Stationary Reciprocating Internal Combustion Engines; in 40 CFR part 63, subpart ZZZZ; on 06/16/03 OMB filed a comment.

EPA ICR No. 1897.05; Information Requirements for Nonroad Diesel Engines (Nonroad Large SI Engines and Marine Diesel Engines); in 40 CFR part 94, 40 CFR part 1048; on 06/11/2003 OMB filed a comment.

EPA ICR No. 1967.01; NESHAP for Stationary Combustion Turbines; in 40 CFR part 63, subpart YYYY; on 07/03/2003 OMB filed a comment.

EPA ICR No. 2096.01; NESHAP for Iron and Steel Foundries (Proposed Rule); in 40 CFR 63.7700, 40 CFR 63.7720, 40 CFR 63.7340, 40 CFR 63.7750, 40 CFR 63.7741, 40 CFR 63.7751, 40 CFR 63.7752; on 07/03/2006 OMB filed a comment.

EPA ICR No. 2099.01; Implementation of Pollution Prevention Alternatives; in 40 CFR part 63; on 07/03/2003 OMB filed a comment.

EPA ICR No. 2046.01; NESHAP for Mercury Cell Chlor-Alkali Plants (Proposed rule) in 40 CFR part 63, subpart IIIII; on 07/03/2003 OMB filed a comment.

EPA ICR No. 2044.01; Reporting and Recordkeeping Requirements for National Emission Standards for Hazardous Air Pollutants for Plastic Parts and Products Surface Coating in 40 CFR part 63, subpart PPPP; on 06/24/2003 OMB filed a comment.

Withdrawn

EPA ICR No. 2083.01; Estimating the Value of Improvements to Coastal Waters—A Pilot Study of a Coastal Valuation Survey; on 06/12/2003 EPA withdrew ICR from OMB review.

Dated: July 17, 2003.
Doreen Sterling,
Acting Director, Collection Strategies Division.

[FR Doc. 03-19003 Filed 7-24-03; 8:45 am]

BILLING CODE 6560-50-P